SECURITIES AND EXCHANGE COMMISSION

[Release No. 34-67224; File No. SR-BX-2012-040]

Self-Regulatory Organizations; NASDAQ OMX BX, Inc.; Notice of Filing and Immediate Effectiveness of Proposed Rule Change Making a Clerical Correction to the Grandfathered Rules

June 20, 2012.

Pursuant to Section 19(b)(1) of the Securities Exchange Act of 1934 (“Act”),¹ and Rule 19b-4 thereunder,² notice is hereby given that on June 7, 2012, NASDAQ OMX BX, Inc. (“BX” or “Exchange”), filed with the Securities and Exchange Commission (“Commission”) the proposed rule change as described in Items I and II below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend the Grandfathered Rules. The text of the proposed rule change is available at http://nasdaq.cchwallstreet.com, at the Exchange's principal office, and at the Commission's Public Reference Room.

II. Self-Regulatory Organization's Statement of the Purpose of, and Statutory Basis for, the Proposed Rule Change

In its filing with the Commission, the Exchange included statements concerning the purpose of, and basis for, the proposed rule change and discussed any comments it received on the proposed rule change. The text of these statements may be examined at the places specified in Item IV below. The Exchange has prepared summaries, set forth in Sections A, B, and C below, of the most significant aspects of such statements.

A. Self-Regulatory Organization's Statement of the Purpose of, and Statutory Basis for, the Proposed Rule Change

1. Purpose

The Exchange proposes to make administrative changes and correct inadvertent typographical errors to the Exhibit 5 to SR-BX-2012-036 ³ (“2012-036 Exhibit 5”) so that the text properly reflects the changes as intended in the purpose section of SR-BX-2012-036. SR-BX-2012-036 was filed for immediate effectiveness on May 14, 2012. The administrative changes and typographical errors to 2012-036 Exhibit 5 are explained below:

³ Securities Exchange Act Release No. 67009 (May 17, 2012), 77 FR 30566 (May 23, 2012) (SR-BX-2012-036).

The Grandfathered BSE Rules

Chapter I-B ends in a comma. The comma is being deleted and a period is being added. In Chapter XVIII—Conduct, Section 4, the language “provided in” was added to the 2012-036 Exhibit 5, but it should have been underlined to denote that it was new text. In addition, a reference to BX Rules 9126, should read BX Rule 9126. As proposed an “s” in the word Rules, is being deleted from the rule text.

Chapter XXXIII, Section 7 had a single bracket (“[”) denoting that text was going to be removed before the word Article that should not have been placed in the 2012-036 Exhibit 5. It was intended that that word remain in the rule text. In Chapter XXXIV, Section 4, a reference to BX Rule 9000 and a reference to BX Rule 9216 was added to the rule text. However, in both places, BX should have been underlined to denote that it was new text.

Grandfathered Boston Options Exchange Group LLC Rules

In Chapter 1, Section 1 (9), the word “a” was added as new text, which as proposed will be deleted. In Chapter II, Section 1(c), the language “of the Boston Stock Exchange, Inc. (“Constitution”)”, should have been removed, the opening bracket was added, to the 2012-036 Exhibit 5, but the closing bracket was not added. The Exchange is proposing to add the closing bracket to properly note what language should have been deleted. Section 6 added the word Reserved to the Rule text; however, it should have been underlined to denote that it was new text.

In Chapter V, an extra closing bracket was added to the deletions to 2012-036 Exhibit 5. The extra bracket will be removed to clarify that the entire section will be deleted. In Chapter VI, Section 4, BX Rules 9000 Series should have been underlined to denote new text. In Chapter X, the Exchange added “See also BX Rule 9216” to the 2012-036 Exhibit 5. The Exchange now proposes to add that section reference to the end of the sentence rather than in the middle of the sentence. In addition, the following sentence, which follows that reference, should begin with a capital “T.” Finally, where “BX Rules 9000 Series” was added to the 2012-036 Exhibit 5, the word Series was not underlined to denote that it was new text.

2. Statutory Basis

The Exchange believes that the proposed rule change is consistent with the provisions of Section 6 of the Act,⁴ in general, and with Section 6(b)(5) of the Act,⁵ in particular, in that the proposal is designed to promote just and equitable principles of trade, to remove impediments to and perfect the mechanism of a free and open market and a national market system, and, in general, to protect investors and the public interest. The proposed rule change is consistent with these provisions in that it will allow the Exchange to make administrative changes and correct inadvertent typographical errors.

⁴ 15 U.S.C. 78f.

⁵ 15 U.S.C. 78f(b)(5).

B. Self-Regulatory Organization's Statement on Burden on Competition

The Exchange does not believe that the proposed rule change will impose any burden on competition not necessary or appropriate in furtherance of the purposes of the Act.

C. Self-Regulatory Organization's Statement on Comments on the Proposed Rule Change Received From Members, Participants, or Others

The Exchange has neither solicited nor received comments on the proposed rule change.

III. Date of Effectiveness of the Proposed Rule Change and Timing for Commission Action

This proposed rule change is filed pursuant to paragraph (A) of section 19(b)(3) of the Exchange Act ⁶ and Rule 19b-4(f)(6) thereunder.⁷ This proposed rule change does not significantly affect the protection of investors or the public interest, does not impose any significant burden on competition, and, by its terms, does not become operative for 30 days after the date of the filing, or such shorter time as the Commission may designate if consistent with the protection of investors and the public interest. At any time within 60 days of the filing of the proposed rule change, the Commission summarily may temporarily suspend such rule change if it appears to the Commission that such action is necessary or appropriate in the public interest, for the protection of investors, or otherwise in furtherance of the purposes of the Act.

⁶ 15 U.S.C. 78s(b)(3)(A).

⁷ 17 CFR 240.19b-4(f)(6).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-BX-2012-040 on the subject line.

Paper Comments

• Send paper comments in triplicate to Elizabeth M. Murphy, Secretary, Securities and Exchange Commission, 100 F Street NE., Washington, DC 20549-1090.

All submissions should refer to File Number SR-BX-2012-040. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10 a.m. and 3 p.m. Copies of such filing also will be available for inspection and copying at the principal offices of the Exchange. All comments received will be posted without change; the Commission does not edit personal identifying information from submissions. You should submit only information that you wish to make available publicly. All submissions should refer to File Number SR-BX-2012-040, and should be submitted on or before July 17, 2012.

For the Commission, by the Division of Trading and Markets, pursuant to delegated authority.⁸
⁸ 17 CFR 200.30-3(a)(12).
Kevin M. O'Neill,
Deputy Secretary.

[FR Doc. 2012-15493 Filed 6-25-12; 8:45 am]

BILLING CODE 8011-01-P